DEPARTMENT OF ENERGY

Federal Energy Regulatory Commission

[Docket No. OR14-19-000]

Enterprise TE Products Pipeline Company, LLC; Notice of Request for Emergency Relief

Take notice that on February 6, 2014, the National Propane Gas Association (NPGA) and its members filed a request for the Commission to exercise its emergency powers pursuant to Section 1(15) of the Interstate Commerce Act (ICA), to allow, or if necessary direct, Enterprise TE Products Pipeline Company LLC (Enterprise) to temporarily provide priority treatment to propane shipments from Mont Belvieu, Texas to locations in the Midwest and Northeast. NPGA submits that due to unique weather and other circumstances beyond the control of shippers, propane supplies throughout the country, particularly the Midwest and Northeast, have reached dangerously low levels. Specifically, NPGA requests that the Commission direct Enterprise to suspend the 81,000 barrel per day (bpd) it reserves for contract shippers of diluent and instead to provide up to 75,000 bpd of capacity to propane shipments beginning immediately and extending through the first week of March 2014. In addition, if necessary NPGA requests that the Commission direct Enterprise to reverse its ATEX Pipeline to allow for shipments of propane from south to north instead of the current ethane shipments which move north to south.

Any person desiring to intervene or to protest in this proceeding must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Anyone filing a motion to intervene or protest must serve a copy of that document on the Petitioner.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 5 copies of the intervention or protest to the Federal Energy Regulatory Commission, 888 First St. NE., Washington, DC 20426.

The filings in the above proceeding are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Comment Date: 5:00 p.m. Eastern time on February 11, 2014.

Dated: February 6, 2014.
Kimberly D. Bose,
Secretary.

[FR Doc. 2014-03227 Filed 2-13-14; 8:45 am]

BILLING CODE 6717-01-P